DEPARTMENT OF DEFENSE

Department of the Army

Performance Review Board Membership

Correction

In notice document 05-23033 beginning on page 70062 in the issue of Monday, November 21, 2005, make the following corrections:

1. On page 70062, in the third column, under the heading SUPPLEMENTARY INFORMATION, in paragraph 8, in the first line, “Jucretia” should read “Lucretia.”

2. On page 70064, in the first column, in paragraph 11, in the first line, “Malinda” should read “Melinda.”

[FR Doc. C5-23033 Filed 11-23-05; 8:45 am]

BILLING CODE 1505-01-D

ENVIRONMENTAL PROTECTION AGENCY

40 CFR Part 87

[OAR-2002-0030; FRL-7997-3]

RIN 2060-AK01

Control of Air Pollution From Aircraft and Aircraft Engines; Emission Standards and Test Procedures

Correction

In rule document 05-22704 beginning on page 69664 in the issue of Thursday, November 17, 2005 make the following corrections:

1. On page 69679, the following text which should have made up footnote 90's second and third paragraphs was mistakenly inserted in the first and second columns:

(The above reference for the fleet fraction is BACK Aviation Solutions, http://www.backaviation.com/Information_Services/default.htm. The domestic flight information is based on SAGE, the System for Assessing Aviation Emissions. SAGE is an FAA model that estimates aircraft emissions through the full flight profile using non-proprietary input data, such as BACK, FAA's Enhanced Traffic Management System (ETMS), and the Official Airline Guide (OAG). The year 2000 air traffic movements database portion of SAGE was used to estimate the number of flights using the subject engines.)

2. On page 69680, the following footnotes were omitted from the table:

ᵃ119 out of 159 (75 percent) of the in-production engines have greater than 10 percent margin to the proposed (or CAEP/4) NOx standards. 78 (49 percent) of the engines have more than 20 percent margin. 24 (15 percent) of the engines have greater than 30 percent margin. (120 of 159 (75 percent) of the in-production engines have margin to the CAEP/6 NOx standards, which generally represent about a 12 percent increase in stringency from today's standards.)

ᵇSource: International Civil Aviation Organization (ICAO), Aircraft Engine Exhaust Emissions Data Bank, July 26 2004. This data bank is available at http://www.caa.co.uk/default.aspx?categoryid=702 &pagetype=90. In addition, a copy of tables including data of engine NOx emissions from the ICAO data bank and their margin to today's NOx standards and the CAEP/6 NOx standards can be found in Docket OAR-2002-0030.

[FR Doc. C5-22704 Filed 11-23-05; 8:45 am]

BILLING CODE 1505-01-D